DEPARTMENT OF COMMERCE

International Trade Administration

[A-570-846]

Brake Rotors from the People's Republic of China: Extension of Time Limit for Final Results in the Seventh Antidumping Duty Administrative Review and the Eleventh New Shipper Review

AGENCY: Import Administration, International Trade Administration, Department of Commerce.

EFFECTIVE DATE: June 16, 2005.

FOR FURTHER INFORMATION CONTACT: Amber Musser at (202) 482-1777, AD/CVD Operations, Office 9, Import Administration, International Trade Administration, U.S. Department of Commerce, 14th Street and Constitution Avenue, NW., Washington, DC, 20230.

SUPPLEMENTARY INFORMATION:

Background

On May 9, 2005, the Department of Commerce (“the Department”) published the preliminary results of the administrative review and the new shipper review of the antidumping duty order on brake rotors from the People's Republic of China. See Brake Rotors from the People's Republic of China: Preliminary Results and Partial Rescission of Seventh Administrative Antidumping Duty Administrative Review and Eleventh New Shipper Review, 70 FR 24382 (May 9, 2005) (“Preliminary Results”).¹ The results of this administrative and new shipper review are currently due no later than September 6, 2005.

¹ Pursuant to Section 351.214(j)(3) of its regulations, the Department is conducting these reviews concurrently.

Extension of Time Limit for Final Results of Review

Pursuant to section 751(a)(3)(A) of the Tariff Act of 1930, as amended (“the Act”), the Department shall make a final determination in an administrative review of an antidumping duty order within 120 days after the date on which the preliminary results are published. If it is not practicable to complete the review within the foregoing time, the administering authority may extend that 120-day period to 180 days. In this case, the Department finds that it is not practicable to complete the final results in the administrative review and new shipper review of brake rotors from the PRC within the current time frame due to the large number of companies participating in this review. There are fourteen companies participating in the administrative review, and one company participating in the new shipper review.

Therefore, in accordance with sections 751(a)(3)(A) of the Act, the Department is extending the time for completion of the final results of this review until no later than November 7, 2005, which is the next business day after 180 days from the date of the publication of the Preliminary Results.

This notice is issued and published in accordance with Section 751(a)(3)(A) of the Act.

Dated: June 9, 2005.
Barbara E. Tillman,
Acting Deputy Assistant Secretary for Import Administration.

[FR Doc. E5-3096 Filed 6-15-05; 8:45 am]

BILLING CODE 3510-DS-S